DEPARTMENT OF ENERGY

Federal Energy Regulatory Commission

Combined Notice of Filings

Take notice that the Commission has received the following Natural Gas Pipeline Rate and Refund Report filings:

Filings Instituting Proceedings

Docket Numbers: RP18-912-000.

Applicants: Texas Eastern Transmission, LP.

Description: § 4(d) Rate Filing: EPC AUG 2018 FILING to be effective 8/1/2018.

Filed Date: 6/28/18.

Accession Number: 20180628-5039.

Comments Due: 5 p.m. ET 7/10/18.

Docket Numbers: RP18-913-000.

Applicants: Dominion Energy Transmission, Inc.

Description: § 4(d) Rate Filing: DETI—June 28, 2018 Negotiated Rate Agreements to be effective 7/1/2018.

Filed Date: 6/28/18.

Accession Number: 20180628-5062.

Comments Due: 5 p.m. ET 7/10/18.

Docket Numbers: RP18-914-000.

Applicants: El Paso Natural Gas Company, L.L.C.

Description: § 4(d) Rate Filing: Non-Conforming Agreement Filing (Atmos Aug 18) to be effective 8/1/2018.

Filed Date: 6/28/18.

Accession Number: 20180628-5063.

Comments Due: 5 p.m. ET 7/10/18.

Docket Numbers: RP18-915-000.

Applicants: Rockies Express Pipeline LLC.

Description: § 4(d) Rate Filing: Neg Rate 2018-06-28 E2W 8 Ks to be effective 7/1/2018.

Filed Date: 6/28/18.

Accession Number: 20180628-5090.

Comments Due: 5 p.m. ET 7/10/18.

Docket Numbers: RP18-916-000.

Applicants: Tennessee Gas Pipeline Company, L.L.C.

Description: § 4(d) Rate Filing: Volume No. 2—Nonconforming GDF Suez SP334279 to be effective 7/1/2018.

Filed Date: 6/28/18.

Accession Number: 20180628-5137.

Comments Due: 5 p.m. ET 7/10/18.

Docket Numbers: RP18-917-000.

Applicants: Tennessee Gas Pipeline Company, L.L.C.

Description: § 4(d) Rate Filing: Volume No. 2—Southwest Louisiana Supply MC Global Gas Corp SP326294 to be effective 8/1/2018.

Filed Date: 6/28/18.

Accession Number: 20180628-5155.

Comments Due: 5 p.m. ET 7/10/18.

Docket Numbers: RP18-918-000.

Applicants: Columbia Gas Transmission, LLC.

Description: § 4(d) Rate Filing: TCO Exelon Negotiated Rate Agreement to be effective 6/28/2018.

Filed Date: 6/28/18.

Accession Number: 20180628-5158.

Comments Due: 5 p.m. ET 7/10/18.

Docket Numbers: RP18-919-000.

Applicants: El Paso Natural Gas Company, L.L.C.

Description: § 4(d) Rate Filing: Negotiated Rate Agreement Update (SRP July-Sept 2018) to be effective 7/1/2018.

Filed Date: 6/28/18.

Accession Number: 20180628-5166.

Comments Due: 5 p.m. ET 7/10/18.

Docket Numbers: RP18-920-000.

Applicants: El Paso Natural Gas Company, L.L.C.

Description: § 4(d) Rate Filing: Negotiated Rate Agreement Update (APS July 2018) to be effective 7/1/2018.

Filed Date: 6/28/18.

Accession Number: 20180628-5169.

Comments Due: 5 p.m. ET 7/10/18.

Docket Numbers: RP18-924-000.

Applicants: MIGC LLC.

Description: Annual Fuel Retention Percentage Tracker of MIGC LLC.

Filed Date: 6/28/18.

Accession Number: 20180628-5172.

Comments Due: 5 p.m. ET 7/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2018.
Kimberly D. Bose,
Secretary.

[FR Doc. 2018-14769 Filed 7-10-18; 8:45 am]

BILLING CODE 6717-01-P